ENVIRONMENTAL PROTECTION AGENCY

[ER-FRL-6657-8]

Environmental Impact Statements and Regulations; Availability of EPA Comments

Availability of EPA comments prepared pursuant to the Environmental Review Process (ERP), under section 309 of the Clean Air Act and section 102(2)(c) of the National Environmental Policy Act, as amended. Requests for copies of EPA comments can be directed to the Office of Federal Activities at (202) 564-7167. An explanation of the ratings assigned to draft environmental impact statements (EISs) was published in the Federal Register dated April 2, 2004 (69 FR 17403).

Draft EISs

ERP No. D-AFS-J02045-WY Rating EC2, Yates Petroleum Federal #1 Oil and Gas Lease, Application for Permit to Drill (APD), Medicine Bow-Routt National Forests and Thunder Basin National Grassland, Duck Creek, Campbell County, WY.

Summary: While the EIS thoroughly discussed environmental impacts and proposed mitigation measures, EPA did express environmental concerns due to groundwater and wildlife impacts if controlled surface use stipulations are waived.

ERP No. D-AFS-L39061-WA Rating EC2, Fish Passage and Aquatic Habitat Restoration at Hemlock Dam, Implementation, Gifford Pinchot National Forest, Mount Adams District, Skamania County, WA.

Summary: EPA has no objections to the dam removal alternatives, B and C which promote improved water quality, fish passage and aquatic habitat. EPA expressed environmental concerns with alternatives D, E, and No Action because they continue to impede fish mitigation and/or would not improve water quality or aquatic habitat. The Final EIS should address sediment quality, revegetation, monitoring plans, and consultation with affected Tribes.

ERP No. DS-NRC-E06023-AL Rating EC1, Generic EIS—License Renewal of Nuclear Plants, Joseph M. Farley Nuclear Plants, Units 1 and 2, Supplemental 18 to NUREG-1437 (TAC Nos. MCO768 and MCO769), Houston County, AL.

Summary: EPA expressed concern and recommended the radiological monitoring of all plant effluents, and the appropriate storage/disposition of radioactive waste.

Final EISs

ERP No. F-AFS-F65045-MN Virginia Forest Management Project Area, Resource Management Activities on 101,000 Acres of Federal Land, Implementation, Superior National Forest, Eastern Region, St. Louis County, MN.

Summary: The final EIS addressed EPA's previous concerns regarding mitigation/monitoring activities for sand and gravel mining and deer herbivore.

ERP No. F-AFS-L65441-OR Easy Fire Recovery Project and Proposed Nonsignificant Forest Plan Amendments, Timber Salvage, Future Fuel Reduction, Road Reconstruction and Maintenance, Road Closure, Tree Planting and Two Non-significant Forest Plan Amendments, Implementation, Malheur National Forest, Prairie City Ranger District, Grant County.

Summary: The final EIS addressed EPA's major concerns with impacts from sediment to water quality and temperature. However, given uncertainties with estimating sediment loading EPA encourages the Forest Service to maximize woody debris on slopes after harvest to reduce sediment delivery to streams and the obliteration of road 2600391 in the harvest area.

ERP No. F-COE-K36139-CA Hamilton City Flood Damage Reduction and Ecosystem Restoration, Propose to Increase Flood Protection and Restore the Ecosystem, Sacramento River, Glenn County, CA.

Summary: No formal comment letter was sent to the preparing agency.

ERP No. F-FHW-J40164-MT

US-2 Highway Corridor Improvement Project, Reconstruction between Havre to Fort Belknap to Replace the Aging US-2 Facility, U.S. Army COE Section 404 Permit, Hill and Blaine Counties, MT.

Summary: EPA is pleased by the selection of the improved two-lane with passing lanes alternative because it involves fewer adverse environmental impacts than a four-lane alternative. EPA's remaining environmental concerns are potential impacts to water quality and aquatic habitat, including wetlands, and impacts to wildlife connectivity and fragmentation.

ERP No. F-NOA-L91022-00

Programmatic EIS—Pacific Coast Groundfish Bycatch Management Plan, Establishment of Policies and Program Direction to Minimize Baycatch in the West Coast Groundfish Fisheries, WA, OR and CA.

Summary: No formal comment letter was sent to the preparing agency.

Dated: November 15, 2004.
Ken Mittelholtz,
Environmental Protection Specialist, Office of Federal Activities.

[FR Doc. 04-25713 Filed 11-18-04; 8:45 am]

BILLING CODE 6560-50-P